AGENCY FOR INTERNATIONAL DEVELOPMENT

Board for International Food and Agricultural Development; One Hundred and Forty-Fifth Meeting; Notice of Meeting

Pursuant to the Federal Advisory Committee Act, notice is hereby given of the one hundred and forty-fifth meeting of the Board for International Food and Agricultural Development (BIFAD). The meeting will be held from 8:30 a.m. to 12 p.m. and from 1 p.m. to 6:15 p.m. on October 12th, 2005 in the Marriott Hotel, 7th and Grand Avenue, Des Moines, Iowa. The meeting is being held in conjunction with the World Food Prize events scheduled for October 13-14 in Des Moines.

The BIFAD will interact with representatives from U.S. universities, Collaborative Research Support Programs (CRSPs), agribusiness and private sector communities along with international agriculture leaders from Africa. Themes will focus on agriculture and human nutrition as they relate to countering HIV/AIDS, enhancing cognitive child development and other aspects of human nutrition as well as emerging issues in international agricultural development, and other items of general interest.

The meeting is free and open to the public. Those wishing to attend the meeting or obtain additional information about BIFAD should contact John Rifenbark, the Designated Federal Officer for BIFAD. Write him in care of the U.S. Agency for International Development, Ronald Reagan Building, Office of Agriculture and Food Security, 1300 Pennsylvania Avenue, NW., Room 2.11-85, Washington DC, 20523-2110 or telephone him at (202) 712-0163 or fax (202) 216-3010.

John T. Rifenbark,
USAID Designated Federal Officer for BIFAD, Office of Agriculture, Bureau for Economic Growth, Agriculture & Trade, U.S. Agency for International Development.

[FR Doc. 05-17955 Filed 9-9-05; 8:45 am]

BILLING CODE 6116-01-P